DEPARTMENT OF VETERANS AFFAIRS

Advisory Committee on Disability Compensation; Notice of Meeting

The Department of Veterans Affairs (VA) gives notice under the Federal Advisory Committee Act that the Advisory Committee on Disability Compensation (Committee) will meet on December 5 and 6, 2017. The Committee will meet at 1722 Eye Street NW., Washington, DC 20006, in the third-floor training complex. The sessions are open to the public and will begin at 8:30 a.m. and end at 4:30 p.m. EST each day.

The purpose of the Committee is to advise the Secretary of Veterans Affairs on the maintenance and periodic readjustment of the VA Schedule for Rating Disabilities. The Committee is to assemble and review information relating to the nature and character of disabilities arising during service in the Armed Forces, provide an ongoing assessment of the effectiveness of the rating schedule, and give advice on the most appropriate means of responding to the needs of Veterans with service-connected disabilities.

The Committee will receive briefings on issues related to compensation for Veterans and on other VA benefits programs. The Committee will allocate time for receiving public comments, which are limited to three minutes each. Individuals wishing to make oral statements before the Committee will be accommodated on a first-come, first-served basis. Individuals who speak are invited to submit one-to-two page summaries of their comments at the time of the meeting for inclusion in the official meeting record.

The public may submit written statements for the Committee's review to Stacy Boyd, Department of Veterans Affairs, Veterans Benefits Administration, Compensation Service, Policy Staff (211A), 810 Vermont Avenue NW., Washington, DC 20420, or via email Stacy.Boyd@va.gov.

Because the meeting is being held in a government building, the screening process requires individuals to present a photographic identification at the Guard's desk. Due to an increase in security protocols, you should allow an additional 30 minutes before the meeting begins. Routine escort will be provided until 9:00 a.m. each day. Any member of the public wishing to attend the meeting or seeking additional information should email Stacy Boyd or call her at (202) 461-9580.

Dated: October 26, 2017.
Jelessa M. Burney,
Federal Advisory Committee Management Officer.

[FR Doc. 2017-23624 Filed 10-30-17; 8:45 am]

BILLING CODE P